DEPARTMENT OF COMMERCE

Submission for OMB Review; Comment Request

DOC has submitted to the Office of Management and Budget (OMB) for clearance the following proposal for collection of information under the provisions of the Paperwork Reduction Act of 1995, Pub. L. 104-13.

Bureau: International Trade Administration.

Title: Application for an Export Trade Certificate of Review.

Agency Form Number: ITA-4093P.

OMB Number: 0625-0125.

Type of Request: Regular submission.

Burden: 384 hours.

Number of Respondents: 12.

Avg. Hours Per Response: 32 hours.

Needs and Uses: Title III of the Export Trading Company Act of 1982 (Pub. L. 97-290, 96 Stat. 1233-1247), requires the Department of Commerce to establish a program to evaluate applications for an Export Trade Certificates of Review (antitrust preclearance for joint export related activities), and with the concurrence of the Department of Justice, issue such certificates where the requirements of the Act are satisfied. The Act requires that Commerce and Justice conduct economic and legal antitrust analyses prior to the issuance of a certificate. The collection of information is necessary to conduct the required economic and legal antitrust analyses. Without the information, there could be no basis upon which a certificate could be issued.

In the Department of Commerce, the economic and legal analyses are performed by the Office of Export Trading Company Affairs and the Office of the General Counsel, respectively. The Department of Justice analyses will be conducted by its Antitrust Division. The purpose of such analyses is to make a determination as to whether or not to issue an Export Trade Certificate of Review. A certificate provides its holder and the members named in the certificate (a) immunity from government actions under state and Federal antitrust laws for the export conduct specified in the certificate; (b) some protection from frivolous private suits by limiting their liability in private actions from treble to actual damages when the challenged activities are covered by an Export Certificate of Review. Title III was enacted to reduce uncertainty regarding application of U.S. antitrust laws to export activities-especially those involving actions by domestic competitors. Application for an export trade certificate of review is voluntary.

Affected Public: Businesses or other for-profit, not-for-profit institutions, state, local or tribal Government.

Frequency: On occasion.

Respondent's Obligation: Required to obtain or retain a benefit, voluntary.

OMB Desk Officer: David Rostker, (202) 395-7340.

Copies of the above information collection proposal can be obtained by calling or writing Diana Hynek, Departmental Paperwork Clearance Officer, (202) 482-0266, Department of Commerce, Room 6612, 14th and Constitution, NW., Washington, DC 20230. E-mail: dHynek@doc.gov.

Written comments and recommendations for the proposed information collection should be sent to David Rostker, OMB Desk Officer, David_Rostker@omb.eop.gov or fax (202) 395-7285 within 30 days of the publication of this notice.

Dated: July 6, 2005.
Madeline Clayton,
Management Analyst, Office of the Chief Information Officer.

[FR Doc. 05-13597 Filed 7-11-05; 8:45 am]

BILLING CODE 3510-DR-P